DEPARTMENT OF AGRICULTURE

Office of the Secretary

[Docket No. APHIS 2008-0026]

Privacy Act Systems of Records; APHIS Automated Trust Funds (ATF) Database

AGENCY: Office of the Secretary, USDA.

ACTION: Notice of a proposed new system of records; request for comment.

SUMMARY: The U.S. Department of Agriculture proposes to add a system of records to its inventory of records systems subject to the Privacy Act of 1974, as amended. The system of records being proposed is the APHIS Automated Trust Funds (ATF) database. This notice is necessary to meet the requirements of the Privacy Act to publish in the Federal Register notice of the existence and character of record systems maintained by the agency.

Although the Privacy Act requires only that the portion of the system that describes the “routine uses” of the system be published for comment, we invite comment on all portions of this notice.

DATES: Effective date: This system will be adopted without further notice on June 9, 2008 unless modified to respond to comments received from the public and published in a subsequent notice.

Comment date: Comments must be received in writing, on or before May 30, 2008.

ADDRESSES: You may submit comments by either of the following methods:

• Federal eRulemaking Portal: Go to: http://www.regulations.gov/fdmspublic/component/main?main=DocketDetail&d=APHIS-2008-0026 and follow the instructions for submitting comments.

• Postal Mail/Commercial Delivery: Docket No. APHIS-2008-0026, Regulatory Analysis and Development, PPD, APHIS, Station 3A-03.8, 4700 River Road Unit 118, Riverdale, MD 20737-1238.

Docket: You may view any comments we receive at the Federal eRulemaking Portal (Web address above) or in our reading room. The reading room is located in room 1141 of the USDA South Building, 14th Street and Independence Avenue SW., Washington, DC. Normal reading room hours are 8 a.m. to 4:30 p.m., Monday through Friday, except holidays. To be sure someone is there to help you, please call (202) 690-2817 before coming.

FOR FURTHER INFORMATION CONTACT: Ms. Vikki Soukup, Program Manager/Supervisory Accountant, Accounting and Payment Team, Financial Management Division, Marketing and Regulatory Programs Business Services, APHIS, 100 North Sixth Street, Butler Square West, 5th Floor, Minneapolis, MN 55403; (612) 336-3237.

SUPPLEMENTARY INFORMATION: The Privacy Act of 1974, as amended (5 U.S.C. 552a), requires agencies to publish in the Federal Register a notice of new or revised systems of records maintained by the agency. A system of records is a group of any records under the control of any agency, from which information is retrieved by the name of an individual or by some identifying number, symbol, or other identifying particular assigned to an individual.

The Animal and Plant Health Inspection Service (APHIS) of the U.S. Department of Agriculture (USDA) is proposing to add a new system of records, titled Automated Trust Funds (ATF) database. It will be used to maintain a record of activities conducted by the agency pursuant to its responsibilities authorized by the Federal Information Security Management Act of 2002 (44 U.S.C. 3541 et seq.), the Chief Financial Officers Act of 1990 (31 U.S.C. 101 et seq.), the Clinger-Cohen Act of 1996 (40 U.S.C. 1401(3)), and the Federal Managers' Financial Integrity Act of 1982, Public Law 97-255.

In order to ensure that animals and plants and their products do not introduce pests or diseases when imported into the United States, APHIS may perform inspections and provide other services to cooperators who have signed trust fund agreements with APHIS. Cooperators may be foreign associations and shippers and U.S. companies. APHIS incurs costs associated with such inspections and services, such as the costs of inspectors' salaries, supplies, overtime, travel, and other miscellaneous expenses. Cooperators are required to pay for these expenses from a trust fund established in their name that holds monies collected in advance of services.

The ATF database is an accounting system that uses financial data extracted directly from the USDA Financial Data Warehouse (FDW) to generate monthly cooperator account statements. Data in the FDW is derived solely from USDA sources. APHIS reviews each statement for accuracy of expenditures and collections transactions in order to ensure that APHIS has collected the correct amount of money for the services performed. These statements are distributed to APHIS field offices for the purpose of addressing cooperator queries and providing status of trust fund accounts. An individual statement is also mailed to each cooperator. Information in the ATF is used to update the Foundation Financial Information System, the official APHIS financial system. Data in the ATF database is not shared with or derived from international, Federal, State, local, or other agencies.

The ATF database contains personally identifiable information about cooperators. It contains cooperator company name; company address, including country; account number; and account balance, including collections, expenses, deposits, and refunds. It may also contain company contact information, including name, telephone number, and mailing address. The records also include inspection information such as name of inspector, overtime paid, and travel dates with the corresponding charges.

Routine Uses of Records Maintained in the System, Including Categories of Users and the Purposes of Such Uses

Routine uses of information in the ATF database include releases related to investigations pertaining to violations of law or related to litigation. A complete listing of the routine uses for this system is included in the accompanying description of the system of records that is published along with this notice.

There are no information collection requests associated with the ATF system. Data contained in the system is extracted directly from the FDW.

Report on New System

A report on the new system of records, required by 5 U.S.C. 552a(r), as implemented by Office of Management and Budget Circular A-130, was sent to the Chairman, Committee on Homeland Security and Governmental Affairs, United States Senate; the Chairman, Committee on Oversight and Government Reform, House of Representatives; and the Administrator, Office of Information and Regulatory Affairs, Office of Management and Budget.

Dated: April 17, 2008.
Edward T. Schafer,
Secretary.

System name:

APHIS Automated Trust Funds (ATF) Database, USDA-APHIS-12

Security classification:

None.

System location:

The ATF server is physically located in a secured room in APHIS offices in Riverdale, MD.

Categories of individuals covered by the system:

Individuals covered by the system include cooperators with signed agreements with APHIS regarding trust fund activities and inspectors who provide services.

Categories of records in the system:

The system extracts information such as cooperator company name; company address, including country; account number; and account balance, including collections, expenses, deposits, and refunds. The system may also contain company contact information, including name, telephone number, and mailing address. The records also include inspection information such as name of inspector, overtime paid, and travel dates with the corresponding charges.

Purpose(s) of the system:

The ATF database is an accounting system that uses financial data extracted directly from the USDA Financial Data Warehouse (FDW) to generate monthly cooperator account statements. These statements contain the status of expenditures and collections transactions, to ensure that APHIS has collected the correct amount of money for the services performed. These statements are distributed to APHIS field offices to address cooperator queries and provide status of trust fund accounts. An individual statement is also mailed to each cooperator. Information in the ATF is used to update the Foundation Financial Information System (FFIS), the official APHIS financial system.

Authority for maintenance of the system:

The Federal Information Security Management Act of 2002 (44 U.S.C. 3541 et seq.), the Chief Financial Officers Act of 1990 (31 U.S.C. 101 et seq.), the Clinger-Cohen Act of 1996 (40 U.S.C. 1401(3)), and the Federal Managers' Financial Integrity Act of 1982, Pub. L. 97-255. Routine uses of records maintained in the system, including categories of users and the purposes of such uses:

In addition to those disclosures generally permitted under 5 U.S.C. 552a(b) of the Privacy Act, records maintained in the system may be disclosed outside USDA as follows:

(1) To the appropriate agency, whether Federal, State, local, or foreign, charged with responsibility of investigating or prosecuting a violation of law or of enforcing, implementing, or complying with a statute, rule, regulation, or order issued pursuant thereto, of any record within this system when information available indicates a violation or potential violation of law, whether civil, criminal, or regulatory in nature, and either arising by general statute or particular program statute, or by rule, regulation, or court order issued pursuant thereto;

(2) To the Department of Justice when the agency, or any component thereof, or any employee of the agency in his or her official capacity, or any employee of the agency in his or her individual capacity where the Department of Justice has agreed to represent the employee or the United States, in litigation, where the agency determines that litigation is likely to affect the agency or any of its components, is a party to litigation or has an interest in such litigation, and the use of such records by the Department of Justice is deemed by the agency to be relevant and necessary to the litigation; provided, however, that in each case, the agency determines that disclosure of the records to the Department of Justice is a use of the information contained in the records that is compatible with the purpose for which the records were collected;

(3) For use in a proceeding before a court or adjudicative body before which the agency is authorized to appear, when the agency, or any component thereof, or any employee of the agency in his or her official capacity, or any employee of the agency in his or her individual capacity where the agency has agreed to represent the employee or the United States, where the agency determines that litigation is likely to affect the agency or any of its components, is a party to litigation or has an interest in such litigation, and the agency determines that use of such records is relevant and necessary to the litigation; provided, however, that in each case, the agency determines that disclosure of the records to the court is a use of the information contained in the records that is compatible with the purpose for which the records were collected;

(4) To appropriate agencies, entities, and persons when the agency suspects or has confirmed that the security or confidentiality of information in the system of records has been compromised; the agency has determined that as a result of the suspected or confirmed compromise there is a risk of harm to economic or property interests, a risk of identity theft or fraud, or a risk of harm to the security or integrity of this system or other systems or programs (whether maintained by the agency or another agency or entity) that rely upon the compromised information; and the disclosure made to such agencies, entities, and persons is reasonably necessary to assist in connection with the agency's efforts to respond to the suspected or confirmed compromise and prevent, minimize, or remedy such harm;

(5) To USDA contractors, partner agency employees or contractors, or private industry employed to identify patterns, trends, or anomalies indicative of fraud, waste, or abuse; and

(6) To the National Archives and Records Administration or to the General Services Administration for records management inspections conducted under 44 U.S.C. 2904 and 2906.

Disclosure to consumer reporting agencies:

None.

Policies and practices for storing, retrieving, accessing, retaining, and disposing of records in the system:

The APHIS Records Management Handbook contains the mandatory policy and official guidelines for establishing, maintaining, using, retaining, and disposing of records.

Storage:

Downloaded files are stored in portable document format (PDF) and stored on a network file server.

Retrievability:

Data will be retrieved by making a query for a batch of statements for a given month. Retrieval is performed once a month. Queries can be made based on trust fund identification numbers or trust fund names. Some queries can be performed on fields such as address, city, state, zip code, or country. Fields such as the address section may be personally identifiable to an individual.

Safeguards:

Numerous inherent safeguards exist to protect the data in the ATF database. These safeguards include required login and authentication for network access, domain access enforced at login by the Microsoft Windows 2003 Server, and by role-based access given on a need-to-know basis. System access is limited to four general users within the APHIS MRPBS Financial Management Division, including the system manager and system administrators. Only one user can access the system at any given time. Financial Management Division positions have been identified as public trust positions and require an extensive background investigation.

Retention and disposal:

Online data is indefinitely maintained in the database and on the file server. This is in accordance with the National Archives and Record Administration (NARA) guidelines.

System managers(s) and address:

Program Manager/Supervisory Accountant, Accounting and Payment Team, Financial Management Division, Marketing and Regulatory Programs Business Services, APHIS, 100 North Sixth Street, Butler Square West, 5th Floor, Minneapolis, MN 55403.

Notification procedure:

Any individual may request general information regarding this system of records or information as to whether the system contains records pertaining to him/her from the system manager at the address above. All inquiries pertaining to this system should be in writing, must name the system of records as set forth in the system notice, and must contain the individual's name, telephone number, address, and e-mail address.

Record access procedures:

Any individual may obtain information from a record in the system that pertains to him or her. Requests for hard copies of records should be in writing, and the request must contain the requesting individual's name, address, name of the system of records, timeframe for the records in question, any other pertinent information to help identify the file, and a copy of his/her photo identification containing a current address for verification of identification. All inquiries should be addressed to the Freedom of Information and Privacy Act Staff, Legislative and Public Affairs, APHIS, 4700 River Road Unit 50, Riverdale, MD 20737-1232.

Contesting record procedures:

Any individual may contest information contained within a record in the system that pertains to him/her by submitting a written request to the system manager at the address above. Include the reason for contesting the record and the proposed amendment to the information with supporting documentation to show how the record is inaccurate.

Record source categories:

Data is collected only from USDA sources. Information in the ATF database is extracted directly from the USDA Financial Data Warehouse (FDW).

Exemptions claimed for the system:

None.

[FR Doc. E8-9421 Filed 4-29-08; 8:45 am]

BILLING CODE 3410-34-P